DEPARTMENT OF LABOR

Employment and Training Administration

[TA-W-41,831 and NAFTA-06338]

Metaldyne, Inc., Formerly Accura Tool & Mold Co., Inc., Crystal Lake, IL; Notice of Negative Determination Regarding Application for Reconsideration

By application of December 18, 2002 (postmark date), a petitioner requested administrative reconsideration of the Department's negative determination regarding eligibility for workers and former workers of the subject firm to apply for Trade Adjustment Assistance (TAA) under petition TA-W-41,831 and North American Free Trade Agreement-Transitional Adjustment Assistance (NAFTA-TAA) under petition NAFTA-6338. The TAA and NAFTA-TAA denial notices applicable to workers of Metaldyne, Inc., formerly Accura Tool & Mold Co., Inc., Crystal Lake, Illinois were signed on November 22, 2002, and November 25, 2002, and published in the Federal Register on December 23, 2002 (67 FR 78257 and 78258, respectively).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Metaldyne, Inc., formerly Accura Tool & Mold Co., Inc., Crystal Lake, Illinois, was denied because the “contributed importantly” group eligibility requirement of section 222(3) of the Trade Act of 1974, as amended, was not met. Most of the molds and dies manufactured at Crystal Lake were sent internally within the subject corporation. Only a relatively minor amount of the plastics operation was supplied to outside customers. Accura Tool & Mold Co., Inc/Metaldyne Inc. did not increase imports of automotive transmission and powertrain molds and dies from 2000 through July 2002 when the plant shut down. Production of metal moldings was transferred to another affiliated domestic facility. The plastics operation was abandoned due to the closure of the plant.

The NAFTA-TAA petition for the same worker group was denied because criteria (3) and (4) of the group eligibility requirements in paragraph (a)(1) of section 250 of the Trade Act, as amended, were not met. There was no shift in production from the workers' firm to Mexico or Canada during the relevant period. Imports from Canada or Mexico did not contribute importantly to worker separations. The factors as addressed in the TAA denial were also discussed in the NAFTA decision.

The petitioner appears to indicate that the Department of Labor made errors in the description of the type of work that was done at the Accura Tool & Mold Co., Inc./Metaldyne plant. When contacted, the petitioner clarified that he suspected that the petitioning worker group produced more than just molds and dies for components other than powertrains and transmissions, as the workers were not always informed about the end use of their production.

A review of the data supplied in the initial investigation and recent follow up contact with the company indicates that the subject plant primarily produced powertrain and transmission molds and dies. The subject firm also produced plastic molds, but this constituted a relatively small portion of overall plant production.

The petitioner also alleged that there were “errors in the correlation of definitions of what Metaldyne's description and functions of Accura Tool and Die were.” The petitioner also attached various documents in an attempt to depict the allegation. When contacted for clarification on this allegation, the petitioner stated that workers skilled in mold and die production can produce molds and dies for a wide variety of metal parts. He also asserted that any mold and die facility had workers that could easily produce products competitive with those produced at the subject firm, and that there were many cheaper facilities in Mexico and Canada capable of this production. It appears that he believes that, if the high transferability of the petitioning worker group's skills were properly understood, then the worker group would be considered eligible for trade adjustment assistance.

In its investigation to assess the eligibility of petitioning worker groups for trade adjustment assistance, the Department considers the actual products produced by subject firm workers, and whether or not like or directly competitive products were imported in the relevant period. Thus, the “functions” as represented by the petitioner, are irrelevant. The overwhelming amount of mold and die production was transferred to another affiliated domestic location. As indicated in the initial investigation, the subject firm also produced plastic molds, but this constituted a relatively small portion of overall plant production. The plastics mold operation was abandoned at the time of plant closure, as it was a residual business of facility's previous owners, and not in line with the business experience and interests of Metaldyne. Recent contact with a company official confirmed that the company did not import products competitive with those produced at the subject firm during the relevant period.

The petitioner also indicates that additional plants located in foreign locations perform the same kind of work and production.

An examination of the attachments provided by the petitioner show various products (i.e., precision die casting as rough castings, machined casting, assemblies and modules) made on a company wide basis from various locations, including foreign locations. The import of these products to the United States is not relevant to the TAA or NAFTA investigations that were filed on behalf of workers producing molds and dies. The product imported must be “like or directly” competitive with what the subject firm produced and the imports (including Canada and/or Mexico as it relates to NAFTA) must “contribute importantly” to the layoffs at the subject plant to meet the eligibility requirements for adjustment assistance under section 222 of the Trade Act of 1974 or NAFTA-TAA under section 250 of the Trade Act of 1974.

The petitioner further appears to state that there has been little consideration for present economical factors that point to the current trend of thousands of manufacturing plant closures and massive layoffs due to overseas trade agreements resulting in the Accura Tool and Dye plant closing.

Economic conditions are not criteria in determining eligibility for worker adjustment assistance pursuant to the Trade Act of 1974. Increased imports (imports from Canada or Mexico as it relates to NAFTA) of products like or directly competitive with what the subject plant produced must contribute importantly to the layoffs at the subject plant to meet the eligibility requirements of TAA or NAFTA. Also, a shift in production to Canada or Mexico could have qualified the workers for NAFTA. In any event, none of these events occurred thus the criteria were not met for the workers of Metaldyne, Inc., formerly Accura Tool & Mold Co., Inc., Crystal Lake, Illinois.

Conclusion

After review of the application and investigative findings, I conclude that there has been no misinterpretation of the law or of the facts which would justify reconsideration of the Department of labor's prior decisions. Accordingly, the application is denied.

Signed in Washington, DC, this 13th day of March, 2003.
Edward A. Tomchick,
Director, Division of Trade Adjustment Assistance.

[FR Doc. 03-7918 Filed 4-1-03; 8:45 am]

BILLING CODE 4510-30-P